DEPARTMENT OF HOMELAND SECURITY

Federal Emergency Management Agency

[Docket ID FEMA-2014-0002; Internal Agency Docket No. FEMA-B-1404]

Proposed Flood Hazard Determinations

Correction

In notice document 2014-09450 beginning on page 23005 in the issue of Friday, April 25, 2014 make the following correction:

On page 23007, in the table, under the heading Davidson County, Tennessee, and Incorporated Areas, in the Community Map Repository Address column, the second entry should read “City Hall, 698 Thompson Lane, Berry Hill, TN 37204”.

[FR Doc. C1-2014-09450 Filed 5-21-14; 8:45 am]

BILLING CODE 1505-01-D